DEPARTMENT OF HOMELAND SECURITY

U.S. Customs and Border Protection

[CBP Dec. 09-43]

Updated List of the Ports-of-Entry Designated for Departure of Nonimmigrant Aliens Who Are Subject to Special Registration

AGENCY: U.S. Customs and Border Protection, Department of Homeland Security.

ACTION: Notice.

SUMMARY: This notice announces that U.S. Customs and Border Protection is adding two new ports of entry to the list of ports through which nonimmigrant aliens subject to special registration requirements may depart from the United States. The new ports-of-entry include Oakland International Airport, California and Saipan, the Commonwealth of the Northern Mariana Islands. Special registration is required of nonimmigrant aliens whose presence in the United States requires closer monitoring.

DATES: Effective Date: Nonimmigrant aliens subject to special registration requirements may depart from the Oakland International Airport, California, effective November 25, 2009, and Saipan, the Commonwealth of the Northern Mariana Islands, effective November 28, 2009.

FOR FURTHER INFORMATION CONTACT: Kenneth Sava, U.S. Customs and Border Protection, Office of Field Operations, at (202) 344-2589.

SUPPLEMENTARY INFORMATION:

Nonimmigrant Aliens Subject to Special Registration Requirements

Certain nonimmigrant aliens, who apply for admission to the United States, are subject to special registration requirements. Upon arrival in the United States, they shall provide information required by the Department of Homeland Security (DHS), such as information relating to their visa status, and they shall be fingerprinted and photographed. Other special registration requirements include appearing at in-person verification or re-registration interviews at the discretion of DHS; providing notice to DHS of any change of address, residence, employment, or educational institution; and reporting departure from the United States to close their registration.

Pursuant to 8 CFR 264.1(f)(2)(i), the Secretary of Homeland Security, in consultation with the Secretary of State, may designate, by publishing a notice in the Federal Register, nonimmigrant aliens from certain foreign countries as subject to the special registration requirements. Nonimmigrant aliens, who meet certain pre-existing criteria indicating that such aliens' presence in the United States warrants monitoring due to the national security interests or law enforcement interests of the United States, are also subject to the special registration requirements. See 8 CFR 264.1(f)(2)(iii). By regulation, the special registration requirements also apply to any nonimmigrant aliens whom a consular or inspecting officer has reason to believe are nationals or citizens of one of the designated countries. See 8 CFR 264.1(f)(2)(ii).

Upon departure from the United States, nonimmigrant aliens subject to the special registration requirements must report to an inspecting officer at and depart from an approved port-of-entry (POE) as set forth by publication in the Federal Register.¹ See 8 CFR 264.1(f)(8). To date, there have been four Federal Register publications designating approved POEs for departure. On September 30, 2002, the former INS published a notice in the Federal Register at 67 FR 61352 which sets forth an affirmative list of 68 POEs that could be used for departure by specially registered nonimmigrant aliens. On February 19, 2003, the former INS published a notice in the Federal Register at 68 FR 8047, corrected at 68 FR 8967 (Feb. 26, 2003), adding 31 POEs, expanding the listing of POEs approved for departure to 99. Finally, on August 8, 2006, CBP published a notice in the Federal Register at 71 FR 45061 updating the listing of POEs by removing one POE from the listing and adding 17 further POEs for a total of 115 POEs that could be used for departure by specially registered nonimmigrant aliens.

¹ An alien who has been specially registered and has not yet departed the United States may seek relief from the departure control requirement for that admission by applying to the U.S. Customs and Border Protection (CBP) field office director for the port from which the alien intends to depart. The alien must establish that exigent or unusual circumstances exist and that the alien warrants a favorable exercise of discretion. See 8 CFR 264.1(f)(7)(i).

This notice expands the August 8, 2006 listing by adding two POEs.

Additional Ports-of-Entry Designated for Final Registration and Departure by Nonimmigrant Aliens Subject to Special Registration

Effective November 25, 2009, Oakland International Airport, California, is designated as a POE authorized to provide final registration and departure by nonimmigrant aliens subject to special registration.

Effective November 28, 2009, Saipan, the Commonwealth of the Northern Mariana Islands, is designated as a POE authorized to provide final registration and departure by nonimmigrant aliens subject to special registration.

Ports-of-Entry Which Are Not Authorized for the Departure of Nonimmigrant Aliens Subject to Special Registration

Due to the limited availability of resources, specifically departure staff and facilities, CBP must limit the POEs authorized for departure registration to effectively capture departure data. Nonimmigrant aliens who are subject to special registration may not depart the United States from any POE, or from any other location, other than those listed below.

Ports-of-Entry Designated for Final Registration and Departure by Nonimmigrant Aliens Subject to Special Registration: Updated List

The below updated list of POEs includes all POEs designated for final registration and departure by nonimmigrant aliens subject to special registration, including the two POEs added by this notice. Nonimmigrant aliens subject to special registration may be examined by CBP and may depart from the following POEs:

Amistad Dam POE, Texas;

Alcan POE, Alaska;

Anchorage International Airport, Alaska;

Atlanta Hartsfield International Airport, Georgia;

Baltimore Washington International Airport, Maryland;

Boeing Field, Seattle, Washington;

Bridge of the Americas POE, Texas;

Brownsville/Matamoros POE, Texas;

Buffalo Peace Bridge POE, New York;

Cape Vincent POE, New York;

Calexico POE, California;

Calais POE, Maine;

Cape Canaveral Seaport, Florida;

Chicago Midway Airport, Illinois;

Chicago O'Hare International Airport, Illinois;

Champlain POE, New York;

Charlotte International Airport, North Carolina;

Chateaugay POE, New York;

Cincinnati/Northern Kentucky International Airport, Ohio;

Cleveland International Airport, Ohio;

Columbus POE, New Mexico;

Cyril E. King Airport, United States Virgin Islands;

Dallas/Fort Worth International Airport, Texas;

Del Rio International Bridge POE, Texas;

Denver International Airport, Colorado;

Derby Line POE, Vermont;

Detroit International (Ambassador) Bridge POE, Michigan;

Detroit Canada Tunnel, Michigan;

Detroit Metro Airport, Michigan;

Douglas POE, Arizona;

Dunseith POE, North Dakota;

Eagle Pass POE, Texas;

Eastport POE, Idaho;

Fort Covington POE, New York;

Fort Duncan Bridge POE, Texas;

Frontier POE, Washington;

Galveston POE, Texas;

Grand Portage POE, Minnesota;

Guam International Airport;

Heart Island POE, New York;

Hidalgo POE, Texas;

Highgate Springs POE, Vermont;

Honolulu International Airport, Hawaii;

Honolulu Seaport, Hawaii;

Houlton POE, Maine;

Houston George Bush Intercontinental Airport, Texas;

Houston Seaport, Texas;

International Falls POE, Minnesota;

Jacksonville Seaport, Florida;

John F. Kennedy International Airport, New York;

Ketchikan Seaport, Alaska;

Kona International Airport and Seaport, Hawaii;

Gateway to the Americas Bridge POE, Laredo, Texas;

Las Vegas (McCarran) International Airport, Nevada;

Lewiston Bridge POE, New York;

Logan International Airport, Massachusetts;

Long Beach Seaport, California;

Los Angeles International Airport, California;

Lukeville, Arizona;

Madawaska POE, Maine;

Mayaguez Seaport, Puerto Rico;

Melbourne International Airport, Florida;

Memphis International Airport;

Miami International Airport, Florida;

Miami Marine Unit, Florida;

Minneapolis/St. Paul International Airport, Minnesota;

Mooers POE, New York;

New Orleans International Airport and Seaport;

Niagara Falls, Rainbow Bridge, New York;

Newark International Airport, New Jersey;

Nogales POE, Arizona;

Oakland International Airport, California;

Ogdensburg POE, New York;

Orlando, Florida;

Oroville POE, Washington;

Otay Mesa POE, California;

Pacific Highway POE, Washington;

Pembina POE, North Dakota;

Philadelphia International Airport, Pennsylvania;

Phoenix (Sky Harbor) International Airport, Arizona;

Piegan POE, Montana;

Pittsburgh International Airport, Pennsylvania;

Point Roberts POE, Washington;

Ponce Seaport, Puerto Rico;

Port Everglades Seaport, Florida;

Port Arthur POE, Texas;

Port Huron POE, Michigan;

Portal POE, North Dakota;

Portland International Airport, Oregon;

Progreso Bridge POE, Texas;

Raymond POE, Montana;

Rochester International Airport, Minnesota;

Rochester-Ferry Terminal, New York;

Roosville POE, Montana;

Rouses Point POE, New York;

Saipan, the Commonwealth of the Northern Mariana Islands (on or after November 28, 2009);

San Antonio International Airport, Texas;

San Diego (Lindbergh Field) International Airport, California;

San Diego Seaport, California;

San Francisco International Airport, California;

San Juan International Airport and Seaport, Puerto Rico;

Sanford International Airport, Florida;

Sault Ste. Marie POE, Michigan;

Savannah International Airport, Georgia;

Seaway International Bridge/Massena POE, New York;

Seattle Tacoma International Airport, Washington;

Southwest Florida International Airport, Florida;

St. Petersburg/Clearwater International Airport, Florida;

St. Louis International Airport (Lambert Field), Missouri;

St. Thomas Seaport, U.S. Virgin Islands;

Sumas POE, Washington;

Sweetgrass POE, Montana;

Tampa International Airport and Seaport, Florida;

Thousand Islands POE, New York;

Trout River POE, New York;

Washington Dulles International Airport, Virginia; and

Ysleta POE, Texas.

Notice of Where To Report for Final Registration and Departure

The regulations governing the manner in which aliens are registered in the United States are contained in 8 CFR 264.1. Upon registration, whether registered at a POE upon admission to the United States or subsequent to admission, each nonimmigrant alien subject to special registration will be issued an information packet that will list each POE authorized for departure and other instructions on how to comply with 8 CFR 264.1. This packet will also contain specific information regarding hours of operation, directions and contact numbers.

This updated list will also be available on the following Web site: http://www.cbp.gov/linkhandler/cgov/travel/id_visa/nseers/nseers_ports.ctt/nseers_ports.doc. CBP will announce any changes to the list of POEs by notice in the Federal Register and will make the list available on the above Web site.

Dated: November 23, 2009.
Jayson P. Ahern,
Acting Commissioner, U.S. Customs and Border Protection.

[FR Doc. E9-28418 Filed 11-23-09; 4:15 pm]

BILLING CODE 9111-14-P